DEPARTMENT OF ENERGY

Federal Energy Regulatory Commission

Notice of Application for Amendment of License and Soliciting Comments, Motions To Intervene, and Protests

June 9, 2000.

Take notice that the following application has been filed with the Commission and is available for public inspection:

a. Application Type: Amendment of License to Delete Transmission Line and Change Project Boundary.

b. Project No: 1933-025.

c. Date Filed: January 27, 2000.

d. Applicant: Southern California Edison Company.

e. Name of Project: Santa Ana River No. 1 & No. 2 Project.

f. Location: Near the mouth of the Santa Ana River Canyon, in San Bernardino County, California.

g. Filed Pursuant to: Federal Power Act, 16 USC 791 (a), 825(r) and 799 and 801.

h. Applicant Contact: Stephen E. Picket, Vice President and General Council, Southern California Edison Company, 2244 Walnut Grove Avenue, P. O. Box 800, Rosemead, CA 91770, (626) 302-4459.

i. FERC Contact: Any questions on this notice should be addressed to Mr. Mohamad Fayyad at (202) 219-2665, or e-mail address: mohamad.fayyad@ferc.fed.us.

j. Deadline for filing comments and or motions: July 17, 2000.

All documents (original and eight copies) should be filed with: David P. Boergers, Secretary, Federal Energy Regulatory Commission, 888 First Street, NE, Washington, DC 20426.

Please include the project number (P-1933-025) on any comments or motions filed.

k. Description of Request: SCE proposes to delete the project's 4.18-mile-long, 33-kV transmission line. SCE says the line is part of its transmission and distribution system, and therefore is not longer a project's primary transmission line. Deletion of the transmission line from the license would reduce the amount of federal lands within the project boundary by about 29.22 acres. These lands are administered by the U.S. Forest Service.

l. Locations of the Application: A copy of the application is available for inspection and reproduction at the Commission's Public Reference Room, located at 888 First Street, NE, Room 2A, Washington, DC 20426, or by calling (202) 208-1371. This filing may be viewed on http://www.ferc.fed.us/online/rims.htm (call (202) 208-2222 for assistance). A copy is also available for inspection and reproduction at the address in item (h) above.

m. Individuals desiring to be included on the Commission's mailing list should so indicate by writing to the Secretary of the Commission.

Comments, Protests, or Motions to Intervene—Anyone may submit comments, a protest, or a motion to intervene in accordance with the requirements of Rules of Practice and Procedure, 18 CFR 385.210, 385.211, 385.214. In determining the appropriate action to take, the Commission will consider all protests or other comments filed, but only those who file a motion to intervene in accordance with the Commission's Rules may become a party to the proceeding. Any comments, protests, or motions to intervene must be recieved on or before the specified comment date for the particular application.

Filing and Service of Responsive Documents—Any filings must bear in all capital letters the title “COMMENTS”, or “RECOMMENDATIONS FOR TERMS AND CONDITIONS”, “PROTEST”, or “MOTION TO INTERVENE”, as applicable, and the Project Number of the particular application to which the filing refers. Any of the above-named documents must be filed by providing the original and the number of copies provided by the Commission's regulations to: The Secretary, Federal Energy Regulatory Commission, 888 First Street, NE, Washington, DC 20426. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the Applicant's representatives.

Linwood A. Watson, Jr.,
Acting Secretary.

[FR Doc. 00-15094 Filed 6-14-00; 8:45 am]

BILLING CODE 6717-01-M